Title 3—

The President

Proclamation 10875 of December 20, 2024

To Implement the United States-Israel Agreement on Trade in Agricultural Products and for Other Purposes

By the President of the United States of America

A Proclamation

1. On April 22, 1985, the United States and Israel entered into the Agreement on the Establishment of a Free Trade Area between the Government of the United States of America and the Government of Israel (USIFTA), which the Congress approved in section 3 of the United States-Israel Free Trade Area Implementation Act of 1985 (the “USIFTA Implementation Act”) (Public Law 99-47, 99 Stat. 82 (19 U.S.C. 2112 note)). Section 4(b) of the USIFTA Implementation Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA. In order to maintain the general level of reciprocal and mutually advantageous concessions with respect to agricultural trade with Israel, on July 27, 2004, the United States entered into an agreement with Israel concerning certain aspects of trade in agricultural products during the period January 1, 2004, through December 31, 2008 (United States-Israel Agreement Concerning Certain Aspects of Trade in Agricultural Products (the “2004 Agreement”)).

2. In Proclamation 7826 of October 4, 2004, the President determined, pursuant to section 4(b) of the USIFTA Implementation Act and consistent with the 2004 Agreement, that, in order to maintain the general level of reciprocal and mutually advantageous concessions with respect to Israel provided for by the USIFTA, it was necessary to provide duty-free access into the United States through December 31, 2008, for specified quantities of certain agricultural products of Israel. Each year from 2008 through 2023, the United States and Israel entered into agreements to extend the period that the 2004 Agreement was in force for 1-year periods to allow additional time for the two governments to conclude an agreement to replace the 2004 Agreement. To carry out the extension agreements, the President in Proclamations 8334 of December 31, 2008; 8467 of December 23, 2009; 8618 of December 21, 2010; 8770 of December 29, 2011; 8921 of December 20, 2012; 9072 of December 23, 2013; 9223 of December 23, 2014; 9383 of December 21, 2015; 9555 of December 15, 2016; 9687 of December 22, 2017; 9834 of December 21, 2018; 9974 of December 26, 2019; 10128 of December 22, 2020; 10326 of December 23, 2021; 10509 of December 23, 2022; and 10692 of December 29, 2023, modified the Harmonized Tariff Schedule of the United States (HTS) to provide duty-free access into the United States for specified quantities of certain agricultural products of Israel, each time for an additional 1-year period. On October 31, 2024, the United States entered into an agreement with Israel to extend the period that the 2004 Agreement is in force through December 31, 2025, and to allow for further negotiations on an agreement to replace the 2004 Agreement. Pursuant to section 4(b) of the USIFTA Implementation Act, I have determined that it is necessary, in order to maintain the general level of reciprocal and mutually advantageous concessions with respect to Israel provided for by the USIFTA, to provide duty-free access into the United States through the close of December 31, 2025, for specified quantities of certain agricultural products of Israel, as provided in Annex I of this proclamation.

3. Proclamation 10053 of June 29, 2020, implemented the Agreement between the United States of America, the United Mexican States, and Canada (USMCA) with respect to the United States and, pursuant to section 103 of the United States-Mexico-Canada Agreement Implementation Act (the “USMCA Implementation Act”) (Public Law 116-113, 134 Stat. 11, 15-17 (19 U.S.C. 4513)), incorporated in the HTS the tariff modifications and rules of origin necessary or appropriate to carry out the USMCA.

4. In order to provide generally for the preferential tariff treatment being accorded under the USMCA, to set forth rules for determining whether goods imported into the customs territory of the United States are eligible for preferential tariff treatment under the USMCA, to provide tariff-rate quotas with respect to certain originating goods of Canada, and to provide certain other treatment to originating goods for purposes of the USMCA, Proclamation 10053 modified the HTS as set forth in Annex I of Publication 5060 of the United States International Trade Commission (the “Commission”), entitled “Modifications to the Harmonized Tariff Schedule of the United States to Implement the United States-Mexico-Canada Agreement” (Publication 5060), including by adding general note 11. Proclamation 10053 further modified the HTS to reflect the termination of tariff treatment under the North American Free Trade Agreement (NAFTA), as set forth in Annex III of Publication 5060, including by deleting general note 12.

5. In order to implement the initial stage of duty reduction provided for in the USMCA, to provide for future staged reductions in duties for originating goods provided for in the USMCA, and to provide tariff-rate quotas with respect to certain goods provided for in the USMCA, Proclamation 10053 modified the HTS as set forth in Annex II of Publication 5060.

6. A technical error was made in the modifications to U.S. note 3(d) to subchapter II of chapter 98 of the HTS, and certain references to general note 12 were inadvertently not modified. I have determined that additional modifications to the HTS are necessary or appropriate to provide for the intended tariff treatment under the USMCA, including certain technical or conforming changes within the tariff schedule.

7. Proclamation 7987 of February 28, 2006, implemented the Dominican Republic-Central America-United States Free Trade Agreement (DR-CAFTA) with respect to the United States and, pursuant to section 201 of the Dominican Republic-Central America-United States Free Trade Agreement Implementation Act (the “DR-CAFTA Act”) (Public Law 109-53, 119 Stat. 462, 467 (19 U.S.C. 4001 note)), incorporated in the HTS the tariff modifications and rules of origin necessary or appropriate to carry out certain provisions of the DR-CAFTA.

8. A rule of origin under the DR-CAFTA, found in general note 29 to the HTS, contains a reference to general note 12. Proclamation 10053 deleted general note 12 but omitted a conforming change to the reference in general note 29. I have determined that an additional modification to the HTS is necessary or appropriate to reflect this conforming change.

9. Section 602 of the Consolidated Appropriations Act, 2021 (Public Law 116-260, 134 Stat. 1182, 2152-54), made technical corrections to other laws, including replacing certain references to the NAFTA with references to the USMCA in sections 112 and 113(b) of the African Growth and Opportunity Act (the “AGOA”) (title I of Public Law 106-200, 114 Stat. 251, 258-265 (19 U.S.C. 3721, 3722(b))), as amended by the Africa Investment Incentive Act of 2006 (title VI of Public Law 109-432, 120 Stat. 2922, 3190-94), and in sections 212(a), 213(b), and 213A(b) of the Caribbean Basin Economic Recovery Act (the “CBERA”) (title II of Public Law 98-67, 97 Stat. 369, 384-85, 388 (19 U.S.C. 2702(a)(1), 2703(b), 2703a(b))), as amended by the United States-Caribbean Basin Trade Partnership Act (title II of Public Law 106-200, 114 Stat. 251, 275-288), the Haitian Hemispheric Opportunity through Partnership Encouragement Act of 2006 (title V of Public Law 109-432, 109 Stat. 2922, 3181-87), and the Haitian Hemispheric Opportunity through Partnership Encouragement Act of 2008 (subtitle D of Public Law 110-234, 122 Stat. 923, 1527-47).

10. I have determined that additional modifications to the HTS are necessary or appropriate to provide for the intended tariff treatment under the AGOA and the CBERA, including certain technical or conforming changes within the tariff schedule.

11. Section 104(c) of the Trade Preferences Extension Act of 2015 (the “TPEA”) (Public Law 114-27, 129 Stat. 362, 365 (19 U.S.C. 2466a note)) authorizes the President to proclaim modifications that may be necessary to add the special tariff treatment symbol “D” in the “Special” subcolumn of the HTS for each article classified under a heading or subheading with the special tariff treatment symbol “A” or “A*” in the “Special” subcolumn of the HTS. Pursuant to section 104(c) of the TPEA, Proclamation 9466 of June 30, 2016, modified the HTS to add the special tariff treatment symbol “D” in the HTS as set forth in Annex III of that proclamation.

12. The modifications to the HTS authorized in Proclamation 9466 included certain technical errors. I have determined that additional modifications to the HTS are necessary or appropriate to provide for the intended tariff treatment under the AGOA, as authorized by section 104(c) of the TPEA, including certain technical or conforming changes within the tariff schedule.

13. Proclamation 6763 of December 23, 1994, implemented, with respect to the United States, the trade agreements resulting from the Uruguay Round of multilateral trade negotiations, including Schedule XX-United States of America, annexed to the Marrakesh Protocol to the General Agreement on Tariffs and Trade 1994 (Schedule XX), that were entered into pursuant to sections 1102(a) and (e) of the Omnibus Trade and Competitiveness Act of 1988 (the “1988 Act”) (Public Law 100-418, 102 Stat. 1107, 1126 (19 U.S.C. 2902(a) and (e))), as amended by Public Law 103-49, 107 Stat. 239, and approved in section 101(a) of the Uruguay Round Agreements Act (the “URAA”) (Public Law 103-465, 108 Stat. 4809, 4814-15 (19 U.S.C. 3511(a))).

14. Pursuant to the authority provided in section 111 of the URAA (19 U.S.C. 3521) and sections 1102(a) and (e) of the 1988 Act (19 U.S.C. 2902(a) and (e)), Proclamation 6763 included the staged reductions in rates of duty that the President determined to be necessary or appropriate to carry out the terms of Schedule XX.

15. Section 1205(a) of the 1988 Act (102 Stat. 1150 (19 U.S.C. 3005(a))) directs the Commission to keep the HTS under continuous review and to periodically recommend to the President such modifications to the HTS as the Commission considers necessary or appropriate to accomplish the purposes set forth in that subsection.

16. Pursuant to sections 1205(c) and (d) of the 1988 Act (102 Stat. 1150-51 (19 U.S.C. 3005(c) and (d))), in 2010, 2015, and 2021, the Commission recommended modifications to the HTS to conform the HTS to amendments made to the International Convention on the Harmonized Commodity Description and Coding System and the Protocol thereto (the “Convention”).

17. Section 1206(a) of the 1988 Act (102 Stat. 1151 (19 U.S.C. 3006(a))) authorizes the President to proclaim modifications to the HTS based on the recommendations of the Commission under section 1205 of the 1988 Act if the President determines that the modifications are in conformity with United States obligations under the Convention and do not run counter to the national economic interest of the United States.

18. Proclamation 8771 of December 29, 2011, Proclamation 9549 of December 1, 2016, and Proclamation 10326 of December 23, 2021, modified the HTS pursuant to section 1206 of the 1988 Act to conform the HTS to the amendments to the Convention. However, the HTS modifications authorized in Proclamation 8771, Proclamation 9549, and Proclamation 10326 each included certain technical errors.

19. Proclamation 8771 incorrectly modified the column 2 rate of duty for subheadings 0401.40.25 and 0401.50.25, and the “General” subcolumn rate of duty for column 1 and the column 2 rate of duty for subheading 6505.00.01. I have determined that additional modifications to the HTS are necessary or appropriate to provide for the intended tariff treatment.

20. Proclamation 9549 and Proclamation 10326 each created certain new subheadings with the special tariff treatment symbol “A” or “A*” in the “Special” subcolumn of the HTS, but omitted the special tariff treatment symbol “D”. I have determined that additional modifications to the HTS are necessary or appropriate to provide for the intended tariff treatment under the AGOA, including certain technical or conforming changes within the tariff schedule.

21. Proclamation 10326 also included technical errors with respect to other subheadings. I have determined that additional modifications to the HTS are necessary or appropriate to provide for the intended tariff treatment, including the tariff treatment previously proclaimed in Proclamation 6763.

22. In Proclamation 9705 of March 8, 2018, pursuant to section 232 of the Trade Expansion Act of 1962, as amended (the “Trade Expansion Act”) (Public Law 87-794, 76 Stat. 872, 877 (19 U.S.C. 1862)), the President concurred with the finding of the Secretary of Commerce that steel articles, as defined in clause 1 of Proclamation 9705 (as amended by clause 8 of Proclamation 9711 of March 22, 2018), are being imported into the United States in such quantities and under such circumstances as to threaten to impair the national security of the United States, and decided to adjust the imports of steel articles by imposing a 25 percent ad valorem tariff on such articles imported from all countries except Canada and Mexico. Proclamation 9740 of April 30, 2018, and Proclamation 9759 of May 31, 2018, modified the HTS to provide quotas with respect to steel articles imported from certain countries. Proclamation 10328 of December 27, 2021, Proclamation 10356 of March 31, 2022, Proclamation 10406 of May 31, 2022, and Proclamation 10691 of December 28, 2023, modified the HTS to provide tariff-rate quotas with respect to steel articles imported from certain countries.

23. On July 1, 2024, the Commission, in cooperation with the interagency Committee for Statistical Annotation of Tariff Schedules, implemented certain changes in 10-digit statistical reporting categories of the HTS under section 484(f) of the Tariff Act of 1930 (ch. 497, 46 Stat. 590, 723 (19 U.S.C. 1484(f))), as amended by section 637 of the North American Free Trade Agreement Implementation Act (Public Law 103-182, 107 Stat. 2057, 2202). I have determined that certain conforming amendments to the HTS are necessary in order to ensure the maintenance of duty rates, quotas, and tariff-rate quotas for steel articles under tariff categories that were modified.

24. Section 604 of the Trade Act of 1974, as amended (the “Trade Act”) (Public Law 93-618, 88 Stat. 1978, 2073 (19 U.S.C. 2483)), authorizes the President to embody in the HTS the substance of the relevant provisions of that Act, and of other acts affecting import treatment, and actions taken thereunder, including the removal, modification, continuance, or imposition of any rate of duty or other import restriction.

NOW, THEREFORE, I, JOSEPH R. BIDEN JR., President of the United States of America, by virtue of the authority vested in me by the Constitution and the laws of the United States of America, including but not limited to section 4(b) of the USIFTA Implementation Act, section 104(c) of the TPEA, section 1206(a) of the 1988 Act, section 232 of the Trade Expansion Act, and section 604 of the Trade Act, do proclaim that:

(1) In order to implement tariff commitments under the 2004 Agreement through December 31, 2025, the HTS is modified as set forth in Annex I of this proclamation.

(2) The modifications and technical rectifications to the HTS made by Annex I of this proclamation shall enter into effect on the applicable dates set forth in Annex I of this proclamation.

(3) In order to make the modifications and technical rectifications to the HTS described in paragraphs 3 through 24 of this proclamation, the HTS is modified as set forth in Annex II of this proclamation. These modifications and technical rectifications shall enter into effect on the applicable dates set forth in Annex II of this proclamation.

(4) Any provisions of previous proclamations and Executive Orders that are inconsistent with the actions taken in this proclamation are superseded to the extent of such inconsistency.

IN WITNESS WHEREOF, I have hereunto set my hand this twentieth day of December, in the year of our Lord two thousand twenty-four, and of the Independence of the United States of America the two hundred and forty-ninth.

Billing code 3395-F4-P

[FR Doc. 2024-31353

Filed 12-26-24; 8:45 am]

Billing code 7020-02-C